DEPARTMENT OF THE INTERIOR

Fish and Wildlife Service

Proposed Information Collection; Africa Grant Program

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before December 31, 2007.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

The Division of International Conservation awards grants funded under the:

(1) African Elephant Conservation Act (16 U.S.C. 4201-4245).

(2) Asian Elephant Conservation Act of 1997 (16 U.S.C. 4261).

(3) Great Apes Conservation Act of 2000 (Pub. L. 106-411).

(4) Rhinoceros and Tiger Conservation Act of 1994 (16 U.S.C. 5306).

(5) Marine Turtle Conservation Act (Pub. L. 108-266).

(6) Wildlife Without Borders Programs - Mexico, Latin America and the Caribbean, and Russia.

OMB has approved the information collection associated with the above grants and assigned control number 1018-0123. We plan to ask OMB to approve our proposed information collection associated with the Africa Grant Program, which will be our newest area of focus under the Wildlife Without Borders programs.

Africa's magnificent wildlife resources are under increasing pressure from human activities. The proposed Africa grant initiative aims to provide training opportunities for African conservationists, educators, and policymakers to strengthen wildlife management in and around protected areas. For the purpose of this fund, protected areas are defined as sites that are publicly or privately owned with recognized legal status accorded by national, provincial, or local government, containing primarily unmodified natural systems managed for long-term protection. Examples include: national parks, forest reserves, buffer zones, community reserves, and privately held land conservancies. Of particular interest are projects that provide training to:

(1) Raise capacity in and around protected areas to mitigate the impact of extractive industries, climate change, human /wildlife conflict, illegal trade in bushmeat, and/or wildlife disease.

(2) Strengthen the administrative capacity (human resource management, financial management, vehicle and facility maintenance, grant writing and project implementation, community outreach and education, conflict resolution, and coalition building) of protected areas.

(3) Strengthen university, college, and other conservation training programs that address protected area management.

(4) Strengthen decisionmakers' knowledge of concepts relevant to protected area legislation, policy, and finance and the importance of harmonizing these with other national sectoral policies.

By providing wildlife professionals with opportunities for training, we can help empower a generation of local people to address key conservation issues such as the threat to wildlife from extractive industries, illegal hunting, human/wildlife conflict, and wildlife disease.

Applicants submit proposals for funding in response to Notices of Funding Availability that we will publish on Grants.gov. We plan to collect the following information:

(1) Cover page with basic project details (FWS Form 3-2338).

(2) Project summary and narrative.

(3) Letter of appropriate government endorsement.

(4) Brief curricula vitae for key project personnel.

(5) Complete Standard Forms 424 and 424b (nondomestic applicants do not submit the standard forms).

Proposals may also include, as appropriate, a copy of the organization's Negotiated Indirect Cost Rate Agreement (NIRCA) and any additional documentation supporting the proposed project.

The project summary and narrative are the basis for this information collection request for approval. A panel of technical experts reviews each proposal to assess how well the project addresses the priorities identified by each program's authorizing legislation. As all of the on-the-ground projects funded by this program will be conducted outside the United States, the letter of appropriate government endorsement ensures that the proposed activities will not meet with local resistance or work in opposition to locally identified priorities and needs. Brief curricula vitae for key project personnel allow the review panel to assess the qualifications of project staff to effectively carry out the project goals and objectives. As all Federal entities must honor the indirect cost rates an organization has negotiated with its cognizant agency, we require all organizations with a NICRA to submit the agreement paperwork with their proposals to verify how their rate is applied in their proposed budget. Applicants may provide any additional documentation that they believe best supports their proposal.

II. Data

OMB Control Number: None. This is a new collection.

Title: Africa Grant Program.

Service Form Number(s): 3-2338.

Type of Request: New collection.

Affected Public: Domestic and nondomestic Federal, State, and local governments, nonprofit, nongovernmental organizations; public and private institutions of higher education; and any other organization or individual with demonstrated experience deemed necessary to carry out the proposed project.

Respondent's Obligation: Required to obtain or retain a benefit.

Frequency of Collection: Annually.

Activity | Number of annual respondents | Number of annual responses | Completion time per response | Annual burden hours
FWS Form 3-2338 (cover page) | 50 | 50 | 1 hour | 50
Application narrative | 50 | 50 | 11 hours | 550
Report (mid-term and final) | 10 | 20 | 30 hours | 600
Totals | 110 | 120 |  | 1,200

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: August 22, 2007.
Hope Grey,
Information Collection Clearance Officer, Fish and Wildlife Service.

[FR Doc. E7-21301 Filed 10-29-07; 8:45 am]

Billing Code 4310-55-S